SURFACE TRANSPORTATION BOARD

[Docket No. FD 36450]

Alabama Railroad, LLC—Acquisition and Operation Exemption—Line of Alabama Railroad Co., Inc.

Alabama Railroad, LLC (ARR), has filed a verified notice of exemption under 49 CFR 1150.31 ¹ to acquire from Alabama Railroad Co., Inc. (ALAB), and operate approximately 47.5 miles of rail line extending from approximately milepost 607.73 at Flomaton to approximately milepost 655.2 near Tunnel Springs, including all sidings and the MR Junction Spur between valuation stations 0+00 and 90+81, in Escambia, Conecuh, and Monroe Counties, Ala. (the Line).

¹ ARR's invocation of the class exemption at 1150.31 suggests that it is currently a noncarrier.

ARR states that it has agreed to purchase all the interest in the Line from ALAB. Upon closing, ARR states that it will assume the common carrier obligation for the Line and be responsible for its operation.²

² ALAB received authority to abandon the Line in 2019 in Docket No. AB 463 (Sub-No. 2X) but has not consummated it. See Ala. R.R.—Aban. Exemption—in Escambia, Conecuh, & Monroe Cntys., Ala., AB 463 (Sub-No. 2X) (STB served Apr. 29, 2020) (extending ALAB's deadline to consummate its abandonment authority for the Line until April 18, 2021). Upon consummation of the sale, ALAB's abandonment authority would no longer be effective.

ARR certifies that the proposed acquisition and operation of the Line does not involve a provision or agreement that may limit future interchange with a third-party connecting carrier. ARR further certifies that its projected annual revenues as a result of this transaction will not exceed the maximum revenue of a Class III rail carrier and will not exceed $5 million.

The transaction may be consummated on or after November 20, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than November 13, 2020 (at least seven days before the exemption becomes effective).

All pleadings, referring to Docket No. FD 36450, should be filed with the Surface Transportation Board via e-filing on the Board's website. In addition, a copy of each pleading must be served on ARR's representative, Charles H. Montange, 426 NW 162nd St., Seattle, WA 98177.

According to ARR, this action is categorically excluded from environmental review under 49 CFR 1105.6(c) and from historic reporting requirements under 49 CFR 1105.8(b).

Board decisions and notices are available at www.stb.gov.

Decided: November 3, 2020.
By the Board, Allison C. Davis, Director, Office of Proceedings.
Aretha Laws-Byrum,
Clearance Clerk.

[FR Doc. 2020-24734 Filed 11-5-20; 8:45 am]

BILLING CODE 4915-01-P